DEPARTMENT OF TRANSPORTATION

Research and Special Programs Administration

Office of Hazardous Materials Safety; Notice of Applications for Exemptions

AGENCY: Research and Special Programs Administration, DOT.

ACTION: List of Applicants for Exemptions.

SUMMARY: In accordance with the procedures governing the application for, and the processing of, exemptions from the Department of Transportation's Hazardous Materials Regulations (49 CFR part 107, subpart B), notice is herby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before June 21, 2002.

ADDRESSES COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the application See Docket Number) are available for inspection at the New Docket Management Facility, PL-401, at the U.S. Department of Transportation, Nassif Building, 400 7th Street, SW. Washington, DC 20590 or at http://dms.dot.gov.

This notice of receipt of applications for new exemptions is published in accordance with Part 107 of the Federal hazardous materials transportation law (49 U.S.C. 5117(b); 49 CFR 1.53(b)).

Issued in Washington, DC, on May 16, 2002.
R. Ryan Posten,
Exemptions Program Officer, Office of Hazardous Materials Exemptions and Approvals.

New Exemptions
Application No. | Docket No. | Applicant | Regulation(s) affected | Nature of Exemption thereof
12988-N | RSPA-02-12215 | Air Products & Chemicals, Inc., Allentown, PA | 49 CFR 173.304 | To authorize the transportation in commerce of a non-DOT specification cylinder for use in transporting hydrogen chloride, anhydrous, Division 2.3. (modes 1, 3)
12990-N | RSPA-02-12218 | Technifab Products, Inc., Brazil, IN | 49 CFR 178.57(1) | To authorize the manufacture, mark, sale and use of cryogenic tanks equipped with alternative openings and testing criteria for use in transporting hazardous materials. (mode 1)
12991-N | RSPA-02-12219 | General Plastics Manufacturing Company, Tacoma, WA | 49 CFR 174.64 (i) & (j) | To authorize rail cars to remain connected while standing without the physical presence of an unloader. (mode 2)
12994-N | RSPA-02-12221 | Air Liquide American Corporation, Houston, TX | 49 CFR 173.34(d) | To authorize the transportation in commerce of certain DOT specification cylinders and cylinders manufactured to a foreign specification without pressure relief devices. (modes 1, 3)
12995-N | RSPA-02-12220 | The Dow Chemical Company, Midland, MI | 49 CFR 173.306(a)(3)(v) | To authorize the transportation in commerce of inner metal receptacles which have been subjected to an alternative testing procedure for use in transporting limited quantities of compressed gases. (modes 1, 2, 3, 4)
12997-N | RSPA-02-12214 | Albemarle Corporation, Baton Rouge, LA | 49 CFR 173.24(g)(4) | To authorize the transportation in commerce of hazardous materials in a vented bulk packaging (an intermediate bulk container) when venting is not authorized. (modes 1, 2, 3)
12998-N | RSPA-02-12278 | Safety-Kleen Services, Inc., Columbia, SC | 49 CFR 173.12(b)(1) | To authorize the transportation in commerce of non-waste material from one location to another location for various customers in lab packs. (mode 1)
13001-N | RSPA-02-12282 | The J.C. Smith Co., San Saba, TX | 49 CFR 178.346 | To authorize the transportation in commerce of a non-DOT specification tank similar to a DOT 406 for use in transporting various hazardous materials. (mode 1)
13010-N |  | Continuum Chemical Corporation, Houston, TX | 49 CFR 173.243 | To authorize the manufacture, mark, sale and use of certain non-DOT specification cargo tanks for transporting hazardous wastes. (mode 1)

[FR Doc. 02-12737 Filed 5-21-02; 8:45 am]

BILLING CODE 4910-60-M